DEPARTMENT OF LABOR

Employment and Training Administration

[TA-W-53,828]

Parallax Power Components, LLC, Goodland, Indiana; Notice of Termination of Investigation

Pursuant to section 221 of the Trade Act of 1974, as amended, an investigation was initiated on December 18, 2003, in response to a worker petition filed by the company on behalf of workers at Parallax Power Components, LLC, Goodland, Indiana.

An active certification covering the petitioning group of workers remains in effect (TA-W-40,523). Consequently, further investigation in this case would serve no purpose; and the investigation has been terminated.

Signed at Washington, DC this 5th day of January 2004.
Richard Church,
Certifying Officer, Division of Trade Adjustment Assistance.

[FR Doc. 04-995 Filed 1-15-04; 8:45 am]

BILLING CODE 4510-30-P